DEPARTMENT OF TRANSPORTATION

Federal Highway Administration

Environmental Impact Statement: Billings County, ND

AGENCY: Federal Highway Administration (FHWA), DOT.

ACTION: Notice of intent.

SUMMARY: The FHWA is issuing this notice to advise the public that an environmental impact statement will be prepared for a proposed roadway project and river crossing over the Little Missouri River in Billings County, North Dakota.

FOR FURTHER INFORMATION CONTACT: Mark Schrader, Environment and Right-of-Way Engineer, Federal Highway Administration, 1471 Interstate Loop, Bismarck, North Dakota 58503, Telephone: (701) 250-4343 Extension 111. Blane Hoesel, Local Government, North Dakota Department of Transportation, 608 E. Boulevard Avenue, Bismarck, North Dakota 58505-0700, Telephone: (701) 328-3482.

SUPPLEMENTARY INFORMATION: The FHWA, in cooperation with the North Dakota Department of Transportation and Billings County, will prepare an environmental impact statement (EIS) on a proposal to provide a roadway by either upgrading and/or new construction to a proposed river crossing over the Little Missouri River in Billings County, North Dakota. The proposed project would be located between the northern border of the Billings County line, the western border of ND Highway 16, the eastern border of U.S. Highway 85, and the southern border of the Theodore Roosevelt National Park.

The proposed project in the corridor is considered necessary to provide for system linkage between ND Highway 16 and U.S. Highway 85 and for a variety of socioeconomic demands, such as emergency management services, industry, agriculture, and recreation. Alternatives under consideration include: (1) Taking no action; (2) construction of a river crossing structure: bridge, low-water crossing, or box culvert; (3) different roadway alignments to the river crossing, including upgrading and/or constructing roadways to meet NDDOT guidelines/standards.

Letters describing the proposed action and soliciting comments will be sent to appropriate Federal, State, and local agencies, and to private organizations and citizens who have previously expressed or are known to have interest in this proposal. A series of public meetings will be held between October 2006 and March 2007. In addition, a public hearing will be held. Public notice will be given of the time and place of the meetings and hearing. The Draft EIS will be available for public and agency review and comment prior to the public hearing. Formal scoping meetings will be held for the agencies and the public.

To ensure that the full range of issues related to this proposed action are addressed and all significant issues identified, comments, and suggestions are invited from all interested parties. Comments or questions concerning this proposed action and the EIS should be directed to the FHWA at the address provided above. (Catalog of Federal Domestic Assistance Program Number 20.205, Highway Planning and Construction. The regulations implementing Executive Order 12372 regarding intergovernmental consultation on Federal programs and activities apply to this program).

Issued on: October 5, 2006.
Allen R. Radliff,
Division Administrator, Federal Highway Administration.

[FR Doc. E6-16887 Filed 10-11-06; 8:45 am]

BILLING CODE 4910-22-P